DEPARTMENT OF STATE

[Public Notice 11052]

Department of State Guidance Portal (Executive Order 13891)

AGENCY: Department of State.

ACTION: Notice.

SUMMARY: The Department of State (the Department) is publishing this notice pursuant to Executive Order 13891 to announce and describe the public-facing portal that will contain the Department's Guidance Documents, as described under the Executive Order.

DATES: The Guidance Portal is available as of February 28, 2020.

ADDRESSES: If a member of the public wishes to provide a comment on any Guidance Document included on the portal, or suggestions for operation of the site, he or she can submit the comment to guidance@state.gov.

FOR FURTHER INFORMATION CONTACT: Alice Kottmyer, Attorney-Adviser, Office of the Legal Adviser, 202-647-2318, kottmyeram@state.gov.

SUPPLEMENTARY INFORMATION: Pursuant to Section 3 of Executive Order 13891, Promoting the Rule of Law Through Improved Agency Guidance Documents, dated October 9, 2019 (the Executive Order), the Department of State has established a portal that contains or links to all Department documents that qualify as “Guidance Documents” under the Executive Order. The URL for this searchable Guidance Portal is https://state.gov/guidance.

Pursuant to Sections 2 and 7 of the Executive Order, certain documents are not linked to or included on the Department's Guidance Portal. Such documents include, but are not limited to, those that pertain to “foreign or military affairs, or to a national security or homeland security function of the United States (other than guidance documents involving procurement or the import or export of non-defense articles and services)”; including but not limited to documents related to the implementation of the Arms Export Control Act, 22 U.S.C. 2751 et seq; educational and cultural exchange, e.g., via implementation of the United States Information and Educational Exchange Act of 1948, as amended (22 U.S.C. 1431, et seq.), and the Mutual Educational and Cultural Exchange Act of 1961, as amended, (22 U.S.C. 2451 et seq.), and related or similar legislation; administration and enforcement of immigration laws relating to visas in 8 U.S.C. 1101 et seq. and other immigration laws; and documents included exclusively on a U.S. Embassy website.

If those documents are included on other Department websites, exclusion from the Guidance Portal will not affect the availability of those documents on such websites. For clarity and convenience, the Department may include on the Guidance Portal documents that fall outside the scope of the Executive Order, including documents that are not “Guidance Documents” and documents that are otherwise exempted under the Executive Order. The Department may remove any or all such documents from the Guidance Portal at any time.

John C. Sullivan,
Deputy Assistant Secretary for Global Information Services, Bureau of Administration, U.S. Department of State.

[FR Doc. 2020-04101 Filed 2-27-20; 8:45 am]

BILLING CODE 4710-24-P